FEDERAL COMMUNICATIONS COMMISSION

47 CFR Chapter I

[CC Docket Nos. 96-45 and 97-21; DA 01-2853]

Federal-State Joint Board on Universal Service, Changes to the Board of Directors of the National Exchange Carrier Association, Inc., and Requests To Withdraw Petitions for Reconsideration

AGENCY: Federal Communications Commission.

ACTION: Final rule; petitions for reconsideration.

SUMMARY: In July 2001, the Commission published three documents asking parties to refresh the record regarding petitions for reconsideration of the Universal Service First Report and Order, Local Competition First Report and Order, and Local Competition Second Report and Order. The Bureau noted that since the release of these orders many of the issues raised in the petitions for reconsideration may have become moot or irrelevant in light of intervening events. Several petitioners have filed withdrawal requests with the Commission because the issues they were seeking in their petitions for reconsideration have become moot or the issues presented have otherwise been addressed since being filed. In this document, the Commission grants the request of several petitioners to withdraw petitions for reconsideration filed in CC Docket Nos. 96-45 and 97-21.

FOR FURTHER INFORMATION CONTACT: Richard D. Smith, Attorney, Common Carrier Bureau, Accounting Policy Division, (202) 418-7400.

SUPPLEMENTARY INFORMATION: This is a summary of the Commission's Order in CC Docket Nos. 96-45 and 97-21 released on December 7, 2001. The full text of this document is available for public inspection during regular business hours in the FCC Reference Center, Room CY-A257, 445 Twelfth Street, SW., Washington, DC 20554.

1. In this Order, we grant the request of several petitioners to withdraw petitions for reconsideration filed in CC Docket Nos. 96-45 and 97-21.

2. To the extent that parties have requested to withdraw petitions for reconsideration to various universal service orders, we hereby grant the requests as set forth below.

Requests To Withdraw Petitions for Reconsideration in CC Docket Nos. 96-45 and 97-21
Petitioner | Date request to withdraw filed
CC Docket No. 96-45
Universal Service First Report and Order, 12 FCC Rcd 8776 (1997), 62 FR 32862, June 17, 1997:
Vermont Department of Public Service | 8/15/97
4th Order on Reconsideration, 13 FCC Rcd 5318 (1997), 63 FR 2093, January 13, 1998:
Microwave Bypass Systems/Michael Lynch | 10/30/01
National Exchange Carrier Association | 10/12/01
National Railroad Passenger Corp. | 12/05/01
Oklahoma State Regents for Higher Education and the Oklahoma Office of State Finance | 12/03/01
United States Telephone Association | 9/14/01
US West (Qwest) | 12/04/01
5th Report and Order, 13 FCC Rcd 21323 (1998), 63 FR 63993, November 18, 1998:
Bell Atlantic (Verizon) | 7/19/01
BellSouth Corp. | 6/19/01
GTE Service Corp. (Verizon) | 7/24/01
9th Report and Order & 18th Order on Reconsideration, 14 FCC Rcd 20432 (1999), 64 FR 67416, December 1, 1999:
National Exchange Carrier Association | 9/14/01
Silver Star Communication | 11/08/01
United States Telephone Association | 9/13/01
10th Report and Order, 14 FCC Rcd 20156 (1999), 64 FR 67372, December 1, 1999:
GTE Service Corp. (Verizon) | 7/19/01
12th Report and Order, 15 FCC Rcd 12208 (2000), 65 FR 47941, August 4, 2000:
Qwest | 12/03/01
SBC Communications | 10/04/01
Order, 13 FCC Rcd 21652 (1998):
Anchorage Telephone Utility | 12/05/01
Copan Order, 15 FCC Rcd 5498 (2000):
USAC | 11/20/01
CC Docket No. 97-21
Order on Reconsideration, 2nd Report and Order, 12 FCC Rcd 12444 (1997), 62 FR 47404, September 9, 1997:
MCI Corp. (WorldCom) | 7/09/01
Report and Order and 2nd Order on Reconsideration, 12 FCC Rcd 18400 (1997), 62 FR 41294, August 1, 1997:
Comcast and Vanguard | 11/07/01
MCI Corp. (WorldCom) | 7/09/01
Nevada Bell, Pacific Bell, and Southwestern Bell | 09/18/01

3. Pursuant to the authority contained in section 405 of the Communications Act of 1934, as amended, and §§ 0.291 and 1.429 of the Commission's rules, the requests to withdraw petitions for reconsideration in CC Docket No. 96-45 and 97-21, as set forth, are granted.

Federal Communications Commission.
Dated: January 30, 2002.
Katherine L. Schroder,
Division Chief, Accounting Policy Division.

[FR Doc. 02-2704 Filed 2-7-02; 8:45 am]

BILLING CODE 6712-01-P